DEPARTMENT OF AGRICULTURE

Agricultural Marketing Service

[Docket No. FV05-993-4 NC]

Notice of Request for Extension and Revision of a Currently Approved Information Collection

AGENCY: Agricultural Marketing Service, USDA.

ACTION: Notice and request for comments.

SUMMARY: In accordance with the Paperwork Reduction Act of 1995 (44 U.S.C. Chapter 35), this notice announces the Agricultural Marketing Service's (AMS) intention to request an extension for and revision to a currently approved information collection for Dried Prunes Produced in California-Prune Handler Compensation Survey, Marketing Order 993.

DATES: Comments on this notice must be received by August 29, 2005.

Additional Information or Comments: Contact Valerie L. Emmer-Scott, Marketing Specialist, Marketing Order Administration Branch, Fruit and Vegetable Programs, AMS, USDA, 1400 Independence Avenue, SW., Stop 0237, Washington, DC 20250-0237; Tel: (202) 720-2491, Fax: (202) 720-8938, or E-mail: moab.docketclerk@usda.gov.

Small businesses may request information on this notice by contacting Jay Guerber, Marketing Order Administration Branch, Fruit and Vegetable Programs, AMS, USDA, 1400 Independence Avenue, SW., Stop 0237, Washington, DC 20250-0237; telephone (202) 720-2491; Fax (202) 720-8938, or E-mail: Jay.Guerber@usda.gov.

SUPPLEMENTARY INFORMATION: Title: Dried Prunes Produced in California, Marketing Order 993.

OMB Number: 0581-0208.

Expiration Date of Approval: February 28, 2006.

Type of Request: Extension and revision of a currently approved information collection.

Abstract: Marketing order programs provide an opportunity for producers of fresh fruits, vegetables and specialty crops, in a specified production area, to work together to solve marketing problems that cannot be solved individually. Order regulations help ensure adequate supplies of high quality product and adequate returns to producers. Under the Agricultural Marketing Agreement Act of 1937 (AMAA), as amended (7 U.S.C. 601-674), marketing order programs are established if favored in referendum among producers. The Department of Agriculture (USDA) is authorized to oversee the order's operations and issue regulations recommended by a committee or board of representatives from each regulated commodity industry. The Prune Marketing Committee (Committee) is responsible for locally administering the California Dried Prune Marketing Order, M.O. No. 993 (order).

The information collection requirements in this request are essential to carry out the intent of the AMAA, to provide the respondents the type of service they request, and to administer the dried prune marketing order program (7 CFR part 993), which has been operating since 1949.

The California dried prune marketing order authorizes the issuance of grade and size regulations, inspection requirements, and volume regulations, when in effect. Regulatory provisions apply to dried prunes shipped both within and outside the production area to any market, except those specifically exempt. The order also has authority for research and development projects. Import grade and conditions requirements are implemented on dried prunes imported into the United States, pursuant to section 608(e)(1) of the AMAA.

Under the order, handlers are compensated for necessary services performed in connection with reserve prunes including, but not limited to, inspection, receiving, storing, grading and fumigation. To assist the Committee in formulating the compensation rates, current costs associated with those services will be obtained through a survey voluntarily submitted by dried prune handlers. The Committee will compute average costs, based on the number of handlers participating in the survey, and will announce the compensation rate for handling reserve prunes.

This survey is needed so that the Committee can compute the average industry cost for holding reserve prunes. It will also allow the Committee to evaluate this information, update the compensation rate, and reimburse handlers for actual costs incurred in holding reserve prunes. This survey will be used when a reserve pool is recommended by the Committee.

The information collected is used only by authorized representatives of the USDA, including AMS, Fruit and Vegetable Programs' regional and headquarter's staff, and authorized employees of the Committee. Authorized Committee employees and the industry are the primary users of the information and AMS is the secondary user.

Estimate of Burden: Public reporting burden for this collection of information is estimated to average .25 hours per response.

Respondents: Dried Prune Handlers who handle reserve prunes.

Estimated Number of Respondents: 22.

Estimated Number of Responses per Respondent: 1.

Estimated Total Annual Burden on Respondents: 5.5 hours.

Comments are invited on: (1) Whether the proposed collection of information is necessary for the proper performance of the functions of the agency, including whether the information will have practical utility; (2) the accuracy of the agency's estimate of the burden of the proposed collection of information, including the validity of the methodology and assumptions used; (3) ways to enhance the quality, utility, and clarity of the information to be collected; and (4) ways to minimize the burden of the collection of information on those who are to respond, including through the use of appropriate automated, electronic, mechanical, or other technological collection techniques or other forms of information technology.

Upon OMB approval, this information collection will be merged into the information collection currently approved under OMB No. 0581-0178, Vegetable and Specialty Crop Marketing Orders.

Comments should reference OMB No. 0581-0211 and the California Dried Prune Marketing Order No. 993, and be mailed to Docket Clerk, Fruit and Vegetable Programs, AMS, USDA, 1400 Independence Avenue, SW Stop 0237, Washington, DC 20250-0237; Tel: (202) 720-2491, Fax: (202) 720-8938; Fax: (202) 720-8938; or E-mail: moab.docketclerk@usda.gov. All comments received will be available for public inspection during regular business hours at the same address.

All responses to this notice will be summarized and included in the request for OMB approval. All comments will also become a matter of public record.

Dated: June 23, 2005.
Kenneth C. Clayton,
Acting Administrator, Agricultural Marketing Service.

[FR Doc. 05-12698 Filed 6-27-05; 8:45 am]

BILLING CODE 3410-02-P